DEPARTMENT OF ENERGY

Federal Energy Regulatory Commission

[Docket No. Ad18-6-000]

Notice of Availability of the Revised Engineering Guidelines for the Evaluation of Hydropower Projects: Chapter 11—Arch Dams and Request for Comments

The staff of the Office of Energy Projects (OEP) is revising Chapter 11—Arch Dams of its Engineering Guidelines for the Evaluation of Hydropower Projects. The staff has revised Chapter 11—Arch Dams ¹ and comments are now requested on the draft document from federal and state agencies, licensees whose infrastructure portfolio includes arch dams, independent consultants and inspectors, and other interested parties with special expertise with respect dam safety and arch dams. A 60-day public comment period is allotted to collect comments. Please note that this comment period will close on February 5, 2018.

¹ The existing Chapter 11—Arch Dams is dated October 1999 and can be found on the Federal Energy Regulatory Commission's (Commission) website to use as a reference to see the changes made: http://www.ferc.gov/industries/hydropower/safety/guidelines/eng-guide/chap11.pdf.

Interested parties can help us determine the appropriate updates and improvements by providing: Meaningful comments or suggestions that focus on the specific sections requiring clarification; updates to reflect current laws and regulations; or improved measures for evaluating the safety of arch dams. The more specific your comments, the more useful they will be. A detailed explanation of your submissions and/or any references of scientific studies associated with your comments will greatly help us with this process. We will consider all timely comments on the revised Guidelines before issuing the final version.

For your convenience, there are three methods which you can use to submit your comments to the Commission. In all instances please reference the docket number (AD18-6-000) on the first page of your submission. The Commission strongly encourages electronic filing.

(1) You can file your comments electronically using the eComment feature on the Commission's website (www.ferc.gov) under the link to Documents and Filings. This is an easy method for interested persons to submit brief, text-only comments up to 6,000 characters. You must include your name and contact information at the end of your comments;

(2) You can file your comments electronically using the eFiling feature on the Commission's website (www.ferc.gov) under the link to Documents and Filings. With eFiling, you can provide comments in a variety of formats by attaching them as a file with your submission. New eFiling users must first create an account by clicking on eRegister. When selecting the filing type, select General, then chose Comment (on Filing, Environ. Report or Tech Conf); or

(3) In lieu of electronic filing, you can mail a paper copy of your comments to: Kimberly D. Bose, Secretary, Federal Energy Regulatory Commission, 888 First Street NE, Room 1A, Washington, DC 20426.

The OEP staff provided copies of revised Chapter 11—Arch Dams to federal and state agencies, licensees whose portfolio includes arch dams, independent consultants and inspectors, and other interested parties. In addition, all information related to the proposed updates to Chapter 11—Arch Dams and submitted comments can be found on the FERC website (www.ferc.gov) using the eLibrary link. Click on the eLibrary link, click on General Search and enter the docket number, excluding the last three digits in the Docket Number field (i.e., AD18-6). Be sure you have selected an appropriate date range. The Commission also offers a free service called eSubscription which allows you to keep track of all formal issuances and submittals in specific dockets. This can reduce the amount of time you spend researching proceedings by automatically providing you with electronic notification of these filings and direct links to the documents. Go to www.ferc.gov/docs-filing/esubscription.asp. Users must be registered in order to use eSubscription.

For assistance with filing or any of the Commission's online systems, please contact FERC Online Support at FercOnlineSupport@ferc.gov or toll free at (866) 208-3676, or for TTY, contact (202) 502-8258.

Dated: December 7, 2017.
Kimberly D. Bose,
Secretary.

[FR Doc. 2017-26927 Filed 12-13-17; 8:45 am]

BILLING CODE 6717-01-P